DEPARTMENT OF COMMERCE

International Trade Administration

Establishment of the Advisory Committee on Supply Chain Competitiveness and Solicitation of Nominations for Membership

AGENCY: International Trade Administration, DOC.

ACTION: Notice of establishment of the Advisory Committee on Supply Chain Competitiveness and solicitation of nominations for membership.

SUMMARY: Pursuant to provisions under the Federal Advisory Committee Act, 5 U.S.C. App., the Under Secretary of Commerce for International Trade announces the establishment of the Advisory Committee on Supply Chain Competitiveness (the Committee) by the Secretary of Commerce. The Committee shall advise the Secretary regarding the development and administration of programs and policies to expand the competitiveness of U.S. supply chains, including programs and policies to expand U.S. exports of goods, services, and technology related to supply chain in accordance with applicable United States regulations. This notice also requests nominations for membership.

DATES: Nominations for members must be received on or before December 14, 2011.

Nominations

The Secretary of Commerce invites nominations to the committee of U.S. citizens who will represent U.S. companies that trade internationally, or U.S. trade associations or U.S. private sector organizations with activities focused on the competitiveness of U.S. supply chain goods and services. No member may represent a company that is majority owned or controlled by a foreign government entity or foreign government entities. Nominees meeting the eligibility requirements will be considered based upon their ability to carry out the goals of the Committee as articulated above. Self-nominations will be accepted. If you are interested in nominating someone to become a member of the Committee, please provide the following information:

(1) Name, title, and relevant contact information (including phone, fax, and email address) of the individual requesting consideration;

(2) A sponsor letter on the company's, trade association's, or organization's letterhead containing a brief description why the nominee should be considered for membership;

(3) Short biography of nominee including credentials;

(4) Brief description of the company, trade association, or organization to be represented and its business activities; company size (number of employees and annual sales); and export markets served;

(5) An affirmative statement that the nominee is not a Federally registered lobbyist, and that the nominee understands that if appointed, the nominee will not be allowed to continue to serve as a Committee member if the nominee becomes a Federally registered lobbyist;

(6) An affirmative statement that the nominee meets all Committee eligibility requirements.

Please do not send company, trade association, or organization brochures or any other information.

Nominations may be emailed to: richard.boll@trade.gov or faxed to the attention of Richard Boll at 202-482-2669, or mailed to Richard Boll, Office of Service Industries, Room CC118, U.S. Department of Commerce, 1401 Constitution Avenue NW., Washington, DC 20230, and must be received before December 14. Nominees selected for appointment to the Committee will be notified by return mail.

FOR FURTHER INFORMATION CONTACT: Richard Boll, Office of Service Industries, Room CC118, U.S. Department of Commerce, 1401 Constitution Avenue NW., Washington, DC 20230; phone 202-482-1135; email: richard.boll@trade.gov.

SUPPLEMENTARY INFORMATION:

I. Background and Authority

The Committee is being established under the discretionary authority of the Secretary, in response to an identified need for consensus advice from U.S. industry to the U.S. government on the development and administration of programs and policies to expand the competitiveness of U.S. supply chains. The Federal Advisory Committee Act (5 U.S.C. App.) governs the Committee and sets forth standards for the formation and use of advisory committees.

For purposes of the Committee, the “supply chain” refers broadly to the combination of goods, services, and technology related to supply chain operations. In advising on the development and administration of programs and policies to expand the global competitiveness of the U.S. supply chains, the Committee shall provide detailed policy and technical advice, information, and recommendations to the Federal Government regarding:

1. National, state, or local factors that inhibit the efficient domestic and international movement of goods from point of origin to destination, and the competitiveness of domestic and international supply chains;

2. Infrastructure capacity, inter- and cross-modal connectivity, investment, regulatory, and intra- or inter-governmental coordination factors that affect supply chain competitiveness, goods movement, and sustainability;

3. Emerging trends in goods movement that affect, or could impact, supply chain competitiveness; and

4. Metrics that can be used to quantify supply chain performance.

II. Structure, Membership, and Operation

The Committee shall consist of approximately 40 members appointed by the Secretary in accordance with applicable Department of Commerce guidance and based on their ability to carry out the objectives of the Committee. Members shall represent U.S. companies, U.S. trade associations, and U.S. private sector organizations that use or operate elements of U.S. global supply chain, with activities focused on the competitiveness of the U.S. supply chain and its component goods, services, and technologies. Membership shall reflect the diversity of goods and services movement activities, including a variety of users that ship through the global supply chain, entities that operate various parts of the supply chain, and individual academic experts in the field. Membership will also be diverse in terms of organization size, and geographic location.

All members will come from the private sector. There will be two types of members: (1) Individual experts from academia, and (2) representatives of a U.S. industry sector (through a U.S. entity or organization). Individual experts will be appointed as Special Government Employees (SGEs) under 18 U.S.C. 202 and will be required to comply with certain ethics laws and rules, including filing a Confidential Financial Disclosure form. The representatives will express the views and interests of their industry sector and will likely be members of a U.S. entity or organization that is within the relevant sector. Because they serve in a representative capacity, they will not be SGEs. Prospective nominees should designate the capacity in which they choose to serve and identify either their area of expertise or the U.S. industry sector they wish to represent.

Each member of the Committee must be a U.S. citizen, and not registered as a foreign agent under the Foreign Agents Registration Act. Additionally, a member must not be a Federally registered lobbyist. No member may represent a company that is majority owned or controlled by a foreign government entity or entities.

Appointments will be made without regard to political affiliation.

Members shall serve at the pleasure of the Secretary from the date of appointment to the COMMITTEE to the date on which the COMMITTEE's charter terminates (normally two years).

The Secretary shall designate the Committee Chair and Vice Chair from selections made by the members. The Chair and Vice Chair will serve in those positions at the pleasure of the Secretary. The Department, through the Assistant Secretary for Manufacturing and Services, may establish subcommittees or working groups from among the Committee's members as may be necessary, and consistent with FACA, the FACA implementing regulations, and applicable Department of Commerce policies. Such subcommittees or working groups may not function independently of the chartered committee and must report their recommendations and advice to the Committee for full deliberation and discussion. Subcommittees or working groups have no authority to make decisions on behalf of the Committee nor can they report directly to the Secretary or his or her designee. The Assistant Secretary for Manufacturing and Services shall designate a Designated Federal Officer (DFO) from among the employees of the Office of Service Industries. The DFO will approve or call all of the advisory committee meetings, prepare and approve all meeting agendas, attend all committee meetings, adjourn any meeting when the DFO determines adjournment to be in the public interest, and chair meetings when directed to do so by the Secretary.

III. Meetings

The Committee shall, to the extent practicable, the Committee shall meet as necessary, but not less than once per year. No quorum is required. Additional meetings may be called at the discretion of the Secretary or his designee.

IV. Compensation

Members of the COMMITTEE will not be compensated for their services or reimbursed for their travel expenses.

Dated: October 31, 2011.
David Long,
Director, Office of Service Industries.

[FR Doc. 2011-28539 Filed 11-2-11; 8:45 am]

BILLING CODE 3510-DS-P